DEPARTMENT OF TRANSPORTATION

Federal Aviation Administration

14 CFR Part 71

[Docket No. FAA-2023-0533; Airspace Docket No. 22-ANM-64]

RIN 2120-AA66

Modification of Class E Airspace; Pullman/Moscow Regional Airport, Pullman/Moscow, WA

AGENCY: Federal Aviation Administration (FAA), DOT.

ACTION: Final rule.

SUMMARY: This action modifies the Class E airspace designated as a surface area, modifies the Class E airspace extending upward from 700 feet above the surface, and removes the Class E airspace extending upward from 1,200 feet above the surface at Pullman/Moscow Regional Airport, Pullman/Moscow, WA. Additionally, this action makes administrative amendments to update the airport's existing Class E airspace legal descriptions. These actions would support the safety and management of instrument flight rules (IFR) operations at the airport.

DATES: Effective date 0901 UTC, October 5, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S. 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies Class E airspace to support IFR operations at Pullman/Moscow Regional Airport, Pullman/Moscow, WA.

History

The FAA published a notice of proposed rulemaking for Docket No. FAA-2023-0533 in the Federal Register (88 FR 18101; March 27, 2023), modifying Class E airspace at Pullman/Moscow Regional Airport, Pullman/Moscow, WA. Interested parties were invited to participate in this rulemaking effort by submitting written comments on the proposal to the FAA. No comments were received.

Differences From the NPRM

Subsequent to the publication of the NPRM, the FAA identified a typographical error in the docket number used in the proposal. The correct docket number is FAA-2023-0533, not FAA-2022-0533. The Airspace Docket Number (22-ANM-64) remains the same, as it was correct in the NPRM. Additionally, the phrase “extending upward from the surface” was missing from the first sentence of the Pullman/Moscow, WA E2 legal description in the NPRM. The phrase was added in this final rule as it is needed to align with the intent and purpose of Class E2 airspace.

Incorporation by Reference

Class E2 and E5 airspace areas are published in paragraphs 6002 and 6005, respectively, of FAA Order JO 7400.11, Airspace Designations and Reporting Points, which is incorporated by reference in 14 CFR 71.1 on an annual basis. This document amends the current version of that order, FAA Order JO 7400.11G, dated August 19, 2022 and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by modifying the Class E airspace designated as a surface area, modifying the Class E airspace extending upward from 700 feet above the surface, and removing Class E airspace extending upward from 1,200 feet above the surface at Pullman/Moscow Regional Airport, Pullman/Moscow, WA.

The Class E surface area is expanded to better contain departing IFR operations until they reach the base of adjacent controlled airspace on the Runway (RWY) 23 Obstacle Departure Procedure (ODP). A 4.5-mile radius around the airport fully contains this procedure and appropriately contains IFR arrival operations between the surface and 1,000 feet above the surface. The extension northeast of the surface area centered on the airport's 046° bearing is now centered on the 058° bearing. It is also widened on either side of the 046° bearing—from 1.7 miles to 2.3 miles—to better contain departing IFR operations until they reach the base of adjacent controlled airspace on the RWY 5 ODP. The southwest extension to the surface area is no longer needed and is removed.

The Class E airspace extending upward from 700 feet above the surface is expanded 1.1 miles to the east to better contain arriving IFR operations below 1,500 feet above the surface on the Area Navigation (RNAV) Required Navigation Performance (RNP) Z RWY 23 approach. The Class E airspace extending upward from 700 feet above the surface is greatly reduced from the southeast clockwise through the northeast as the airspace is no longer needed. The Class E airspace extending upward from 1,200 feet above the surface is removed, as the area is already within the Spokane en route domestic airspace area.

Finally, the FAA is making administrative amendments to the airport's legal descriptions. The city name on line 1 of the text headers in both legal descriptions is updated from “Pullman” to “Pullman/Moscow” to match the FAA's database. The geographic coordinates located on line 3 of the text headers in both legal descriptions is updated to match the FAA's database. The Class E surface area legal description is updated to replace the outdated use of the phrases “Notice to Airmen” and “Airport/Facility Directory.” These phrases now read “Notice to Air Missions” and “Chart Supplement,” respectively, to align with the FAA's current nomenclature.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR part 71.1 of FAA Order JO 7400.11G, Airspace Designations and Reporting Points, dated August 19, 2022, and effective September 15, 2022, is amended as follows:

Paragraph 6002 Class E Airspace Areas Designated as a Surface Area.

* * * * *

ANM WA E2 Pullman/Moscow, WA [Amended]

Pullman/Moscow Regional Airport, WA

(Lat. 46°44′30″ N, long. 117°06′42″ W)

That airspace extending upward from the surface within a 4.5-mile radius of the airport and within 2.3 miles on each side of the 058° bearing extending from the 4.5-mile radius to 7 miles northeast of the airport. This Class E airspace area is effective during the specific dates and times established in advance by a Notice to Air Missions. The effective date and time will thereafter be continuously published in the Chart Supplement.

* * * * *

Paragraph 6005 Class E Airspace Areas Extending Upward From 700 Feet or More Above the Surface of the Earth.

* * * * *

ANM WA E5 Pullman/Moscow, WA [Amended]

Pullman/Moscow Regional Airport, WA

(Lat. 46°44′30″ N, long. 117°06′42″ W)

That airspace extending upward from 700 feet above the surface bounded by a line beginning at a point on the 055° bearing, 11.1 miles from the airport, then clockwise along the airport's 11.1-mile radius to the 122° bearing, then to the 212° bearing at 6.4 miles, then to the 243° bearing at 7.3 miles, then to the 358° bearing at 6.6 miles, thence to the point of beginning.

* * * * *

Issued in Des Moines, Washington, on June 12, 2023.
B.G. Chew,
Group Manager, Operations Support Group, Western Service Center.

[FR Doc. 2023-12964 Filed 6-15-23; 8:45 am]

BILLING CODE 4910-13-P